DEPARTMENT OF COMMERCE

National Oceanic and Atmospheric Administration

RIN 0648-XV084

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will convene on Monday, October 21 through Thursday, October 24, 2019.

ADDRESSES: The meeting will take place at The Tremont House, 2300 Ships Mechanic Row, Galveston, TX 77550; telephone: (409) 763-0300.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, October 21, 2019; 8 a.m.-5:30 p.m.

The meeting will begin in Full Council with induction of new council member; and, review and adoption of Council Committee Assignments for October 2019 through October 2020.

Committee sessions will begin with the Administrative/Budget Committee reviewing the 2015-19 Projected Expenditures and Budget Carryover to 2020; and, review and discuss Potential Contractual Projects for 2020. The Coral Committee will receive updates on the Coral Reef Conservation Program and Flower Garden Banks National Marine Sanctuary Expansion; review the status of Coral Amendment 9 and Florida Keys National Marine Sanctuary Management Review and Recommendations from Joint Coral Scientific and Statistical Committee (SSC), Coral Advisory Panel (AP), and Shrimp AP Meeting and Reef Fish AP. The Coral Committee will receive any remaining items from the Joint Coral SSC, Coral AP, and Shrimp AP meeting. The Sustainable Fisheries Committee will discuss final draft Framework Action to Modify Federal For-Hire Trip Limits and draft Amendment Reef Fish 48/Red Drum 5: Status Determination Criteria and Optimum Yield for Reef Fish and Red Drum. The committee will also discuss Council Research and Monitoring Priorities for 2020-24; receive a presentation on Eye on the Gulf: An Electronic Monitoring Presentation on the Gulf of Mexico Reef Fish Fishery; presentation on Allocation Review Criteria; receive remaining items from the SSC Summary Report; and, hold a committee discussion on Allocation Issues.

Immediately following Sustainable Fisheries Committee, National Marine Fisheries Service (NMFS) will have an information Individual Fishing Quota (IFQ) Outreach Session for Fishermen and Dealers.

Tuesday, October 22, 2019; 8:30 a.m.-5:30 p.m.

Committee sessions will continue with Outreach and Education receiving a presentation on Communication Analytics; review of “Fishing for Our Future” web page; and, receive a meeting summary from the Release Mortality Symposium. The Reef Fish Committee will review the Reef Fish and Coastal Migratory Pelagics Landings, draft Amendment 36B: Modifications to Commercial IFQ Programs and Presentations; and, draft Framework Action to Modify Greater Amberjack Recreational Management Measures. Following lunch, the Reef Fish Committee will review stock assessments for SEDAR 61—Gulf of Mexico Red Grouper and Itarget Model Update and Projections for Gulf Lane Snapper; and receive a summary report of the remaining items from the Reef Fish Advisory Panel meeting.

Wednesday, October 23, 2019; 8:30 a.m.-5:30 p.m.

The Law Enforcement Committee will receive a summary from the Law Enforcement Technical Committee Meeting; and, review of Illegal Unreported and Unregulated (IUU) Fishing Report. The Gulf SEDAR Committee will review of Gulf Stocks suitable for interim analyses, receive a summary from the August 2019 SEDAR Steering Committee meeting (webinar) on NOAA's Recommended Use of the Current Gulf of Mexico Surveys of Marine Recreational Fishing in Stock Assessments; review a Report to Congress Regarding Section 201 of the Modernizing Recreational Fisheries Management Act of 2018; and receive a summary from the September 2019 SEDAR Steering Committee meeting (webinar). The Data Collection Committee will discuss draft Procedural Directive for Electronic Monitoring Programs; and, receive an update on Southeast For-Hire Reporting.

Full Council will reconvene late morning with Call to Order, Announcements, and Introductions; Adoption of Agenda and Approval of Minutes. Council will review Exempted Fishing Permit (EFP) Applications and public comments on EFP Applications (if any); and, receive a presentation on Texas Law Enforcement Efforts. After lunch, the Council will hold public comment testimony 2 p.m. until 5:30 p.m. on the following items: Final Action: Framework Action to Modify Federal For-Hire Trip Limits; and open testimony on Other Fishery Issues or Concerns. Anyone wishing to speak during public comment testimony should sign in at the registration station located at the entrance of the meeting room.

Thursday, October 24, 2019; 8:30 a.m.-4 p.m.

The Council will receive reports from the following management committees: Administrative/Budget, Coral, Outreach and Education, Sustainable Fisheries, Gulf SEDAR, Data Collection, Law Enforcement and Reef Fish. The Council will vote on EFP applications, if any; and receive updates from the following supporting agencies: South Atlantic Fishery Management Council; NOAA Office of Law Enforcement (OLE), Gulf States Marine Fisheries Commission; U.S. Coast Guard; U.S. Fish and Wildlife Service; Department of State.

Lastly, the Council will discuss any Other Business items; and receive an update on the South Atlantic Council's Control Date for Spanish Mackerel.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: September 25, 2019.
Tracey L. Thompson,
Acting Deputy Director, Office of Sustainable Fisheries, National Marine Fisheries Service.

[FR Doc. 2019-21162 Filed 9-27-19; 8:45 am]

BILLING CODE 3510-22-P